ENVIRONMENTAL PROTECTION AGENCY

[ER-FRL-9000-3]

Environmental Impacts Statements; Notice of Availability

Responsible Agency: Office of Federal Activities, General Information (202) 564-1399 or http://www.epa.gov/compliance/nepa/.

Weekly receipt of Environmental Impact Statements

Filed 11/14/2011 through 11/18/2011

Pursuant to 40 CFR 1506.9.

Notice

Section 309(a) of the Clean Air Act requires that EPA make public its comments on EISs issued by other Federal agencies. EPA's comment letters on EIS are available at: http://www.epa.gov/compliance/nepa/eisdata.html.

EIS No. 20110402, Draft EIS, USAF, OH, Wright-Patterson Air Force Base (WPAFB) Project, Reconfigure and Relocate Facilities and Base Perimeter Fence Relocation Area, OH, Comment Period Ends: 01/17/2012, Contact: Karen Beason (937) 257-5899.

EIS No. 20110403, Draft EIS, USFS, CA, Creeks II Forest Restoration Project, Proposal to Protect Rural Communities from Fire Hazards by Constructing Fuel Breaks Known as Defensible Fuel Profile Zones (DFPZs), Lassen National Forest, Almanor Ranger District, Plumas County, CA, Comment Period Ends: 01/17/2012, Contact: Blair Halbrooks (530) 258-5160.

EIS No. 20110404, Draft EIS, BLM, NV, Mount Hope Project, Molybdenum Mining and Processing Operation in Eureka County, NV, Comment Period Ends: 03/07/2012, Contact: Angelica Rose (775) 635-4000.

EIS No. 20110405, Third Final Supplement, USFS, MT, Bozeman Municipal Watershed Project, Minor Changes to FSEIS of May 2011, to Address New Additions to the Sensitive Species List, to Implement Fuel Reduction Activities, Bozeman Ranger District, Gallatin National Forest, City of Bozeman Municipal Watershed, Gallatin County, MT, Review Period Ends: 01/03/2012, Contact: Teri Seth (406) 522-2539.

EIS No. 20110406, Draft EIS, USN, CA, Marine Corps Base Camp Pendleton Project, Basewide Water Infrastructure and Stuart Mesa Bridge Replacement, Implementation, San Diego County, CA, Comment Period Ends: 01/17/2012, Contact: Jesse Martinez (619) 532-3844.

EIS No. 20110407, Draft Supplement, USFS, ID, Lakeview-Reeder Fuels Reduction Project, Proposed Fuels Reduction and Road Treatment Activities, Updated and New Information, Idaho Panhandle National Forests, Priest Lake Ranger District, Bonner County, ID, Comment Period Ends: 01/17/2012, Contact: Albert Helgenberg (208) 265-6643.

EIS No. 20110408, Final EIS, USFS, ID, Lower Orogrande Project, Proposes Watershed Improvement Timber Harvest and Wildlife Habitat Enhancement Activities, North Fork Ranger District, Clearwater National Forest, Clearwater County, ID, Review Period Ends: 01/03/2012, Contact: Kathy Rodriguez (208) 476-4541.

Amended Notices

EIS No. 20110327, Draft EIS, BR, 00, Klamath Facilities Removal Project, Advance Restoration of the Salmonid Fisheries Klamath Basin, Siskiyou County, CA and Klamath County, OR, Comment Period Ends: 12/30/2011, Contact: Elizabeth Vasqueuz (916) 978-5055. Revision to FR Notice 09/30/2011: Extending Comment Period from 11/29/2011 to 12/30/2011.

Dated: November 29, 2011.
Cliff Rader,
Acting Director, NEPA Compliance Division, Office of Federal Activities.

[FR Doc. 2011-31032 Filed 12-1-11; 8:45 am]

BILLING CODE 6560-50-P